DEPARTMENT OF VETERANS AFFAIRS

National Research Advisory Council; Notice of Meeting

The Department of Veterans Affairs (VA) gives notice under Public Law 92-463 (Federal Advisory Committee Act) that the Veterans Affairs National Research Advisory Council will meet at the Residence Inn by Marriott, Pentagon City in the Eisenhower Ballroom, 550 Army Navy Drive, Arlington, VA 22202, on September 5, 2001, from 8 a.m. to 1 a.m. The agenda for this session of the meeting will include the minutes from the previous meeting and overview of the VA Career Development Program, research infrastructure needs, and the Rehabilitation Research and Development Service. Established by the Secretary of the VA, the purpose of the Council is to provide external advice and review for VA's research mission. Those planning to attend the open meeting should contact Ms. Lisa Gilbert, Office of Research and Development at (202) 273-8243.

Dated: August 21, 2001.
Nora E. Egan,
Committee Management Officer.

[FR Doc. 01-21803 Filed 8-28-01; 8:45 am]

BILLING CODE 8320-01-M